DEPARTMENT OF EDUCATION

[CFDA No.: 84.215E]

Elementary School Counseling Demonstration Program

AGENCY: Department of Education.

ACTION: Notice reopening the application deadline date for the Elementary School Counseling Demonstration Program.

SUMMARY: On April 18, 2000, the Department published a notice inviting applications for new awards for the Elementary and Secondary Education Act, Title X—Programs of National Significance, Part A-Fund for the Improvement of Education-Section 10102, Elementary Counseling Demonstration Program. The Secretary reopens the deadline date for the submission of applications for this competition from June 9, 2000 for applicants that can show a shipping label, invoice, or receipt for overnight delivery contracted to arrive by June 9, 2000. This action is taken due to unexpected or unavoidable delays in receipt of applications sent via certain overnight delivery services.

DATES: The applicant deadline date is reopened to July 13, 2000 for applicants able to show a shipping label, invoice, or receipt for overnight delivery contracted to arrive by June 9, 2000.

FOR FURTHER INFORMATION CONTACT: Loretta Riggans, Safe and Drug-Free Schools Program, U.S. Department of Education, 400 Maryland Avenue, SW., Washington, DC 20202-6123. Telephone: (202) 260-3954.

Individuals who use a telecommunication device for the deaf (TDD) may call the Federal Information Relay Service (FIRS) at (800) 877-8339.

Electronic Access to This Document: You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at:

http://www.access.gpo.gov/nara/index.html

Program Authority: 20 U.S.C. 8002.

Dated: July 7, 2000.
Michael Cohen,
Assistant Secretary for Elementary and Secondary Education.

[FR Doc. 00-17687 Filed 7-12-00; 8:45 am]

BILLING CODE 4000-01-M